NATIONAL SCIENCE FOUNDATION

Special Emphasis Panel in Geosciences; Notice of Meeting

In accordance with the Federal Advisory Committee Act (Pub. L. 92-463, as amended), the National Science Foundation announces the following meeting:

Name: Special Emphasis Panel in Geosciences (1756).

Date and Time: September 7 and 8, 2000, 8 a.m. to 5 p.m.

Place: National Science Foundation, 4201 Wilson Blvd, Rm 730, Arlington, VA.

Type of Meeting: Closed.

Contact Person: Dr. Robert Robinson, Program Director for Upper Atmospheric Facilities, and Dr. John Meriwether, Program Director for Aeronomy. Room 775, Division of Atmospheric Sciences, National Science Foundation, 4201 Wilson Blvd., Arlington, VA 22230. (703) 292-8529.

Purpose of Meeting: To provide advice and recommendations concerning proposals submitted to the National Science Foundation for financial support.

Agenda: To review and evaluate Coupling, Energetics, and Dynamics of Atmospheric Regions (CEDAR) proposals as part of the selection process for awards.

Reason for Closing: The proposals being reviewed include information of a proprietary or confidential nature, including technical information; financial data, such as salaries; and personal information concerning individuals associated with the proposals. These matters are exempt under 5 USC 552b(c), (4) and (6) of the Government in the Sunshine Act.

Dated: August 11, 2000.
Karen J. York,
Committee Management Officer.

[FR Doc. 00-20839 Filed 8-15-00; 8:45 am]

BILLING CODE 7555-01-M